NUCLEAR REGULATORY COMMISSION

Advisory Committee on Nuclear Waste and Materials; Meeting Notice

The Advisory Committee on Nuclear Waste and Materials (ACNW&M) will hold its 181st meeting on July 17-19, 2007, Room T-2B3, 11545 Rockville Pike, Rockville, Maryland.

Tuesday, July 17, 2007

8:30 a.m.-8:35 a.m.: Opening Remarks by the ACNW&M Chairman (Open)—The Chairman will make opening remarks regarding the conduct of today's sessions.

8:35 a.m.—10 a.m.: Semiannual Briefing by the Office of Nuclear Material Safety and Safeguards (NMSS) (Open)—The NMSS Office Director and Division Directors will brief the Committee on recent and future activities of interest within their respective programs.

2 p.m.-3:30 p.m.: Waste Incidental to Reprocessing (WIR) Monitoring Activities at the Idaho National Laboratory (INL) and Savannah River (SR) Sites (Open)—NRC staff representative from the Division of Waste Management and Environmental Protection (DWMEP), Office of Federal and State Materials and Environmental Management (FSME), will brief the Committee on WIR monitoring activities at the U.S. Department of Energy's INL and SR sites.

3:45 p.m.-4:45 p.m.: DOE Reexamination of Past U.S. Geological Survey (USGS) Infiltration Studies (Open)—NRC staff representative from NMSS will brief the Committee about the status of infiltration studies and modeling at Yucca Mountain, Nevada. The discussion will include NMSS plans for review of DOE's infiltration studies.

Wednesday, July 18, 2007

8:30 a.m.-8:35 a.m.: Opening Remarks by the ACNW&M Chairman (Open)—The Chairman will make opening remarks regarding the conduct of today's sessions.

8:35 a.m.-9:30 a.m.: Annual Briefing by the Office of Nuclear Regulatory Research (RES) (Open)—RES Office Director and Branch Chiefs will brief the Committee on recent and future activities of interest within their respective programs.

9:30 a.m.-10:30 a.m.: Nuclear Energy Institute (NEI) Briefing on the Use of Burnup Credit for Spent Fuel Storage & Transportation Casks (Open)—NEI representatives will brief the Committee on their views for the use of burnup credit in support of licensing transportation and storage cask designs. Representatives from the Electric Power Research Institute may participate in the NEI presentation.

10:45 a.m.-11:15 a.m.: Transportation, Aging, and Disposal (TAD) Canister System Performance Specification, Revision 0, Recently Issued by DOE (Open)—ACNW&M Member Weiner will brief the Committee on the June 2007 release of the Final TAD Performance Specifications.

11:15 a.m.-12:15 p.m.: Vendor's Views on the TAD Performance Specification (Open)—A representative from Transnuclear, a commercial vendor, will brief the Committee on their views on the recently issued TAD Performance Specification, possible challenges the vendor may be facing, and suggestions for expediting NRC approval of a TAD license application.

1:30 p.m.-5 p.m.: ACNW&M White Paper on Spent Nuclear Fuel Recycle Facilities (Open)—The Committee will hold a roundtable discussion with NRC staff and external stakeholders, including industry representatives, on their draft White Paper entitled: “Background, Status, and Issues Related to the Regulation of Advanced Spent Nuclear Fuel Recycle Facilities.”

Thursday, July 19, 2007

8:30 a.m.-8:35 a.m.: Opening Remarks by the ACNW&M Chairman (Open)—The Chairman will make opening remarks regarding the conduct of today's sessions.

8:35 a.m.-9:30 a.m.: Regulatory Guides Scheduled for Revision by the Office of Nuclear Regulatory Research (RES) (Open)—ACNW&M Chairman Ryan will brief the Committee on his review of the proposed list of Regulatory Guides to be revised by RES.

9:30 a.m.—12 p.m.: Discussion of ACNW&M Letter Reports (Open)—The Committee will discuss potential and proposed ACNW&M letter reports.

1 p.m.-5 p.m.: Miscellaneous (Open)—The Committee will discuss matters related to the conduct of ACNW&M activities and specific issues that were not completed during previous meetings, as time and availability of information permit. Discussions may include content of future letters and scope of future Committee Meetings.

Procedures for the conduct of and participation in ACNW&M meetings were published in the Federal Register on October 12, 2006 (71 FR 60196). In accordance with those procedures, oral or written views may be presented by members of the public. Electronic recordings will be permitted only during those portions of the meeting that are open to the public. Persons desiring to make oral statements should notify Dr. Antonio F. Dias (Telephone 301-415-6805), between 8:15 a.m. and 5 p.m. ET, as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefor can be obtained by contacting Dr. Dias.

ACNW&M meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACNW&M meetings. Those wishing to use this service for observing ACNW&M meetings should contact Mr. Theron Brown, ACRS/ACNW&M Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: June 27,2007.
Andrew L. Bates,
Advisory Committee Management Officer.

[FR Doc. E7-12841 Filed 7-2-07; 8:45 am]

BILLING CODE 7590-01-P